SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

I. The information collections listed below will be submitted to OMB within 60 days from the date of this notice. Therefore, comments and recommendations regarding the information collections would be most useful if received by the Agency within 60 days from the date of this publication. Comments should be directed to the SSA Reports Clearance Officer at the address listed at the end of this publication. You can obtain a copy of the collection instruments by calling the SSA Reports Clearance Officer on (410) 965-4145, or by writing to him at the address listed at the end of this publication.

1. Subpart T—State Supplementation Provisions; Agreement; Payments, 20 CFR 416.2099—0960-0240. Section 1618 of the Social Security Act contains pass-along provisions of the Social Security amendments. These provisions require States that supplement the Federal SSI benefits pass along Federal cost-of-living increases to individuals who are eligible for State supplementary payments. If a State fails to keep payments at the required level, it becomes ineligible for Medicaid reimbursement under title XIX of the Social Security Act. Regulation at 20 CFR 416.2099 requires the States to report mandatory minimum and optional supplementary payment data to SSA. The information is used to determine compliance with the law and regulations. The respondents are States that supplement Federal SSI payments.

Number of respondents: 26.

Number of Response: 15 states report quarterly, 11 states report annually.

Average burden per response: 1 hour.

Estimated Annual Burden: 71 hours.

2. Application for Search of Census Records for Proof of Age-0960-0097. The information collected on Form SSA-1535-U3 is required to provide the Census Bureau with sufficient identifying information, which will allow an accurate search of census records to establish proof of age for an individual applying for Social Security Benefits. It is used for individuals who must establish age as a factor of entitlement. The respondents are individuals applying for Social Security Benefits.

Number of respondents: 18,000.

Number of Response: 1.

Average burden per response: 12 minutes.

Estimated Annual Burden: 3,600.

3. Psychiatric Review Technique—0960-0413. The information collected on Form SSA-2506 is needed by SSA to facilitate the adjudication of claims involving mental impairments. The information is used to identify the need for additional evidence in the determination of impairment severity; to consider aspects of mental impairment relevant to the individual's ability to work; and to organize and present the findings in a clear, concise manner. The respondents are State DDS's administering titles II and XVI disability programs.

Number of Respondents: 1,005,804.

Frequency of Response: 1.

Average Burden Per Response: 15 minutes.

Estimated Annual Burden: 251,451 hours.

4. Integrated Registration for Employers and Submitters (IRES)-0960-NEW. The IRES authentication system is a free service designed to allow employers to access SSA's electronic wage reporting services, and to replace the use of a handwritten signature with an electronic signature. Employer representatives will use an IRES generated PIN and password as their electronic signature. IRES was designed to be more efficient, reducing the costs to both employers and SSA, and will facilitate the filing of wage data electronically.

SSA's paramount interest in the development of IRES was to ensure that the new electronic method of identifying wage report submitters provides the same security features as the current paper-based method. Security features will include message integrity, originator authentication, non-repudiation and confidentiality. The PIN and password will be issued to an individual designated by the employer after SSA authenticates the company and contact information provided by the individual.

SSA plans to use the IRES in conjunction with SSA's wage reporting processes. It will be used as the gateway for electronic wage reporting and the Online Employee Verification Service. It will also be used when SSA implements additional electronic services such as electronic notices and error information. The PIN will also be used in the AWR diskette process to replace the signature on IRS paper form 6559. SSA has received approval from IRS to use an alternative signature.

Respondents to IRES will be Employers and Submitters who utilize SSA's electronic wage reporting and Online Employee Verification Services.

Number of respondents: 250,000.

Number of Response: 1.

Average burden per response: 2 minutes.

Estimated Annual Burden: 8333 hours.

II. The information collections listed below have been submitted to OMB for clearance. Written comments and recommendations on the information collections would be most useful if received within 30 days from the date of this publication. Comments should be directed to the SSA Reports Clearance Officer and the OMB Desk Officer at the addresses listed at the end of this publication. You can obtain a copy of the OMB clearance packages by calling the SSA Reports Clearance Officer on (410) 965-4145, or by writing to him.

1. Request for Reconsideration-0960-NEW. The information collected on Form SSA-561 is used by SSA to initiate the reconsideration process for determining entitlement of individuals to Social Security benefits under (title II), Supplemental Security Income payments (title XVI), Special Veterans Benefits (title VIII) and Medicare benefits (title XVIII). The respondents are individuals filing for such reconsideration.

Number of respondents: 1,455,000.

Number of Response: 1.

Average burden per response: 8 minutes.

Estimated Annual Burden: 194,000.

(SSA Address)

Social Security Administration, DCFAM, Attn: Frederick W. Brickenkamp, 1-A-21 Operations Bldg., 6401 Security Blvd., Baltimore, MD 21235.

(OMB Address)

Office of Management and Budget, OIRA, Attn: Desk Officer for SSA, New Executive Office Building, Room 10230, 725 17th St., NW, Washington, D.C. 20503.

Dated: June 9, 2000.
Frederick W. Brickenkamp,
Reports Clearance Officer, Social Security Administration.

[FR Doc. 00-15120 Filed 6-15-00; 8:45 am]

BILLING CODE 4190-29-P